POSTAL SERVICE

Product Change—Priority Mail Express, Priority Mail, and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: July 23, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and number | MC Docket No. | K Docket No.
07/14/25 | PME-PM-GA 1391 | MC2025-1576 | K2025-1569
07/17/25 | PM 908 | MC2025-1578 | K2025-1571
07/17/25 | PM 909 | MC2025-1579 | K2025-1572
07/17/25 | PME-PM-GA 1392 | MC2025-1580 | K2025-1573

Documents are available at www.prc.gov.

Sean C. Robinson,
Attorney, Corporate and Postal Business Law.

[FR Doc. 2025-13806 Filed 7-22-25; 8:45 am]

BILLING CODE 7710-12-P